DEPARTMENT OF LABOR

Employment and Training Administration

[TA-W-82,857; TA-W-82,857A]

Rockwell Automation Shared Service Center Including On-Site Leased Workers From Allegis, Milwaukee, Wisconsin; Rockwell Automation-Anorad Financial Division, East Setauket, New York; Amended Certification Regarding Eligibility To Apply for Worker Adjustment Assistance

In accordance with Section 223 of the Trade Act of 1974, as amended (“Act”), 19 U.S.C. 2273, the Department of Labor issued a Certification of Eligibility to Apply for Worker Adjustment Assistance on August 1, 2013, applicable to workers of Rockwell Automation, Shared Services Center, including on-site leased workers from Allegis, Milwaukee, Wisconsin. The Department's notice of determination was published in the Federal Register on August 27, 2013 (78 FR 52979).

The Department reviewed the certification for workers of the subject firm. The workers are engaged in activities related to the supply of financial and accounting services for Rockwell Automation.

The investigation confirmed that worker separations at Rockwell Automation-Anorad, Financial Division, East Setauket, New York are attributable to the same shift of services to a foreign country that was the original basis for certification.

The amended notice applicable to the workers of Rockwell Automation, Shared Services Center, including on-site leased workers from Allegis, Milwaukee, Wisconsin (TA-W-82,857) and Rockwell Automation-Anorad, Financial Division, East Setauket, New York (TA-W-82,857A) is hereby issued as follows:

All workers of Rockwell Automation, Shared Services Center, including on-site leased workers from Allegis, Milwaukee, Wisconsin (TA-W-82,857) and Rockwell Automation-Anorad, Financial Division, East Setauket, New York (TA-W-82,857A) who became totally or partially separated from employment on or after June 27, 2012 through August 1, 2015, and all workers in the group threatened with total or partial separation from employment on the date of certification August 1, 2015, are eligible to apply for adjustment assistance under Chapter 2 of Title II of the Trade Act of 1974, as amended.

Signed in Washington, DC this 19th day of May, 2015.
Michael W. Jaffe,
Certifying Officer, Office of Trade Adjustment Assistance.

[FR Doc. 2015-15068 Filed 6-18-15; 8:45 am]

BILLING CODE 4510-FN-P